NATIONAL SCIENCE FOUNDATION

Advisory Committee for Environmental Research and Education Notice of Meeting

In accordance with the Federal Advisory Committee Act (Pub. L. 92-463, as amended), the National Science Foundation (NSF) announces the following meeting:

Name and Committee Code: Advisory Committee for Environmental Research and Education (9487).

Date and Time: March 25—26, 2020; 9:00 a.m.-5:30 p.m.

Place: National Science Foundation, 2415 Eisenhower Avenue, Conference Room 2030, Alexandria, VA 22314.

Type of Meeting: Open.

Contact Person: Dr. Leah Nichols, Staff Associate, Office of Integrative Activities/Office of the Director/National Science Foundation, 2415 Eisenhower Avenue, Alexandria, VA 22314; (Email: acere-poc@nsf.gov/Telephone: (703) 292-8040).

Minutes: May be obtained from the AC's website at: https://www.nsf.gov/ere/ereweb/minutes.jsp.

Purpose of Meeting: To provide advice, recommendations, and oversight concerning support for environmental research and education.

Agenda: Discussion of subcommittee work. Updates on agency support for environmental research and education activities. Discussion with NSF senior leadership. Plan for future advisory committee activities. Updated agenda will be available at https://www.nsf.gov/ere/ereweb/minutes.jsp.

Dated: February 18, 2020.
Crystal Robinson,
Committee Management Officer.

[FR Doc. 2020-03469 Filed 2-20-20; 8:45 am]

BILLING CODE 7555-01-P